DEPARTMENT OF HEALTH AND HUMAN SERVICES

Substance Abuse and Mental Health Services Administration

Privacy Act of 1974; Report of Systems of Record Notices

AGENCY: Substance Abuse and Mental Health Services Administration (SAMHSA), HHS.

ACTION: Privacy Act: Notice to add a new routine use to all SAMHSA Systems of Record Notices (SORNs) and Retire 2 Outdated SORNs.

SUMMARY: In accordance with the requirements of the Privacy Act SAMHSA proposes to add a new routine use to its inventory of SORNs subject to the Privacy Act of 1974 (Title 5 United States Code [U.S.C.] 552a) authorizing disclosure of individually identifiable information to assist in efforts to respond to a suspected or confirmed breach of the security or confidentiality of information maintained in these systems of records. The new routine use will be prioritized in the next consecutive numbered order of routine uses in each system notice and will be included in the next published notice as part of SAMHSA's normal SORN review process.

SAMHSA also deleted two outdated, obsolete SORNs.

Routine Uses of Records

The following SORNs have been updated to include the routine use below:

“To appropriate Federal agencies and Department contractors that have a need to know the information for the purpose of assisting the Department's efforts to respond to a suspected or confirmed breach of the security or confidentiality of information maintained in this system of records, and the information disclosed is relevant and necessary for that assistance.”

09-30-0023 Records of Contracts Awarded to Individuals, HHS/SAMHSA/OA; Published in the Federal Register, Vol. 64, No. 11, Tuesday, January 19, 1999 (pages 2909-2918).

09-30-0027 Grants and Cooperative Agreements: Research, Research Training, Research Scientist Development, Service, Education, Demonstration, Prevention, Fellowships, Clinical Training, Community Services Programs, HHS/SAMHSA/OA; Published in the Federal Register, Vol. 64, No. 11, Tuesday, January 19, 1999 (pages 2909-2918).

09-30-0033 Correspondence Files, HHS/SAMHSA/OA; Published in the Federal Register, Vol. 64, No. 11, Tuesday, January 19, 1999 (pages 2909-2918).

09-30-0036 Alcohol, Drug Abuse, and Mental Health Epidemiologic Data, HHS/SAMHSA/OA; Published in the Federal Register, Vol. 64, No. 11, Tuesday, January 19, 1999 (pages 2909-2918).

09-30-0049 Consultant Records Maintained by SAMHSA Contractors, HHS/SAMHSA/OA; Published in the Federal Register, Vol. 64, No. 11, Tuesday, January 19, 1999 (pages 2909-2918).

09-30-0051 SAMHSA Information Mailing System (SIMS), HHS/SAMHSA/OA; Published in the Federal Register, Vol. 66, No. 62, Friday, March 30, 2001 (p. 17434).

09-30-0052 SAMHSA Opioid Treatment Waiver Notification System (OTWNS); Published in the Federal Register, Vol. 67, No. 80, Thursday, April 25, 2002 (pages 20542-20544).

Retired Systems of Records Notices

The following SORNs have been retired (e.g., deleted):

09-30-0029 Records of Guest Workers, HHS/SAMHSA/OPS; Published in the Federal Register, Vol. 64, No. 11, Tuesday, January 19, 1999 (pages 2909-2918).

09-30-0047 Patient Records of Chronic Mentally Ill Merchant Seaman Treated at Nursing Homes in Lexington, Kentucky (1942 to the Present), HHS/SAMHSA/CMHS; Published in the Federal Register, Vol. 64, No. 11, Tuesday, January 19, 1999 (pages 2909-2918).

DATES: Effective Date: The new routine use and SORN deletions will be effective on April 12, 2010.

SUPPLEMENTARY INFORMATION: On May 22, 2007, the Office of Management and Budget (OMB) released Memoranda (M) 07-16, Safeguarding Against and Responding to the Breach of Personally Identifiable Information. HHS convened a leadership committee composed of members from the Office of the Chief Information Officer (OCIO), the office of Assistant Secretary for Public Affairs (ASPA), and the Office of the Assistant Secretary for Planning and Evaluation (ASPE) in order to formulate a response plan for the newly established requirements. The final response plan was signed by the HHS Chief Information Officer (CIO), Mike Carleton, and submitted to OMB on September 19. As required by the memorandum, and to comply with the “Incident Reporting and Handling Requirements,” all Operations and Staff Divisions are instructed to incorporate the suggested routine use language as a part of their normal SORN review process.

Contact Information

The public should address comments to: Bill Reed, SAMHSA Chief Information Officer, 1 Choke Cherry Road, Room 3-1097, Rockville, MD, 20857, Telephone: (240) 276-1134.

Comments received will be available for review at this location, by appointment, during regular business hours (Monday through Friday 9 a.m.—3 p.m., Eastern Time Zone).

Dated: May 6, 2010.
Bill Reed,
SAMHSA Chief Information Officer, breed@samhsa.hhs.gov.

PRIVACY ACT SYSTEM NOTICE: 09-30-0023ⁱ

SYSTEM NAME:

Records of Contracts Awarded to Individuals (HHS/SAMHSA/OPS).

SECURITY CLASSIFICATION:

None.

SYSTEM LOCATION:

Director, Division of Contracts Management, Office of Program Services, Substance Abuse and Mental Health Services Administration, 1 Choke Cherry Road, Rm., 7-1053, Rockville, Maryland 20857.

CATEGORIES OF INDIVIDUALS COVERED BY THE SYSTEM:

An individual who receives a contract as well as individuals who apply or compete for an award but do not receive the award and their consultants.

CATEGORIES OF RECORDS IN THE SYSTEM:

Curriculum vitae, salary information, evaluations of proposals by contract review committees.

AUTHORITY FOR MAINTENANCE OF THE SYSTEM:

SAMHSA: Public Health Service Act, sections 301 (42 U.S.C. 241), 322 (42 U.S.C. 249(c)), and 501-05 (42 U.S.C. 290aa et seq.). CSAT: Center for Substance Abuse Treatment, Section 507-12 (42 U.S.C. 290bb et seq.). CSAP: Center for Substance Abuse Prevention, Section 515-8 (42 U.S.C. 290bb-21 et seq.). CMHS: Center for Mental Health Services, Section 520-35 (42 U.S.C. 290bb-31 et seq.). Protection and Advocacy for Individuals with Mental Health Illness Act of 1986 as amended (42 U.S.C. 10801 et seq.); Refugee Education Assistance Act 1980, section 501(c) (8 U.S.C. 1522 note). Public Law 96-422; Executive Order 12341; and Disaster Relief Act of 1974, section 413. Public Law 93-288, as amended by section 416 of the Robert T. Stafford Disaster Relief and Emergency Assistance Act. Public Law 100-107.

PURPOSE(S) OF THE SYSTEM:

To document the history of each contract procurement action and award made within SAMHSA to an individual. The records are also used by contract review committee members when evaluating a proposal submitted by an individual.

ROUTINE USES OF RECORDS MAINTAINED IN THE SYSTEM, INCLUDING CATEGORIES OF USERS AND THE PURPOSES OF SUCH USES:

1. Disclosure may be made to a congressional office from the record of an individual in response to a verified inquiry from the congressional office made at the written request of that individual.

2. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation or has an interest in such litigation, and HHS determines that the use of such records by the Department of Justice, the court or other tribunal is relevant and necessary to the litigation and would help in the effective representation of the governmental party, provided however, that in each case, HHS determines that such disclosure is compatible with the purpose for which the records were collected.

3. A record from this system may be disclosed to the following entities in order to help collect a debt owed the United States:

(a) To another Federal agency so that agency can effect a salary offset;

(b) to another Federal agency so that agency can effect an administrative offset under common law or under 31 U.S.C. 3716 (withholding from money payable to, or held on behalf of, the individual);

(c) to the Treasury Department, Internal Revenue Service (IRS), to request his/her mailing address to locate him/her or in order to have a credit report prepared;

(d) to agents of the Department and to other third parties to help locate him/her in order to help collect or compromise a debt;

(e) to debt collection agents under 31 U.S.C. 3718 or under common law to help collect a debt; and

(f) to the Justice Department for litigation or further administrative action.

Disclosure under part (d) of this routine use is limited to the individual's name, address, Social Security number, and other information necessary to identify him/her. Disclosure under parts (a)-(c) and (e) is limited to those items; the amount, status, and history of the claim; and the agency or program under which the claim arose. An address obtained from IRS may be disclosed to a credit reporting agency under part (d) only for purposes of preparing a commercial credit report on the individual. Part (a) applies to claims or debts arising or payable under the Social Security Act if and only if the employee consents in writing to the offset.

4. SAMHSA may disclose information from its records in this system to consumer reporting agencies in order to obtain credit reports to verify credit worthiness of contract applicants. Permissible disclosures include name, address, Social Security number or other information necessary to identify the individual; the funding being sought; and the program for which the information is being obtained.

5. When a debt becomes partly or wholly uncollectible, either because the time period for collection under the statute of limitations has expired or because the Government agrees with the individual to forgive or compromise the debt, a record from this system of records may be disclosed to the Internal Revenue Service to report the written-off amount as taxable income to the individual.

6. A record from this system may be disclosed to another Federal agency that has asked the Department to effect an administrative offset under common law or under 31 U.S.C. 3716 to help collect a debt owed the United States.

Disclosure under this routine use is limited to: name, address, Social Security number, and other information necessary to identify the individual, information about the money payable to or held for the individual, and other information concerning the administrative offset.

7. SAMHSA may disclose from this system of records to the Department of Treasury, Internal Revenue Service (IRS): (1) A delinquent debtor's name, address, Social Security number, and other information necessary to identify the debtor; (2) the amount of the debt; and (3) the program under which the debt arose, so that IRS can offset against the debt any income tax refunds which may be due to the debtor.

8. To appropriate Federal agencies and Department contractors that have a need to know the information for the purpose of assisting the Department's efforts to respond to a suspected or confirmed breach of the security or confidentiality of information maintained in this system of records, and the information disclosed is relevant and necessary for that assistance.

DISCLOSURES TO CONSUMER REPORTING AGENCIES:

Disclosures may be made from this system to “consumer reporting agencies” as defined in the Fair Credit Reporting Act (15 U.S.C. 1681 (F)) or the Federal Claims Collection Act of 1966 (31 U.S.C. 3701(a)(3)). The purpose of such disclosures is to provide an incentive for debtors to repay delinquent Federal Government debts by making these debts part of their credit records. Information disclosed will be limited to name, Social Security number, address, other information necessary to establish the identity of the individual, and amount, status, and history of the claim, and the agency or program under which the claim arose. Such disclosures will be made only after the procedural requirements of 31 U.S.C. 3711(f) have been met.

POLICIES AND PRACTICES FOR STORING, RETRIEVING, ACCESSING, RETAINING, AND DISPOSING OF RECORDS IN THE SYSTEM:

STORAGE:

Documents are filed in manual files in enclosed and/or locked file cabinets.

RETRIEVABILITY:

Records are retrieved by contract number and cross indexed by individual's name.

SAFEGUARDS:

1. Authorized Users: Federal contract and support personnel, Federal contract review staff and outside consultants acting as peer reviewers of the project.

2. Physical Safeguards: All folders are in file cabinets in a room that is locked after business hours in a building with controlled entry (picture identification). Files are withdrawn from cabinet for Federal staff who have a need to know by a sign in and out procedure.

3. Procedural Safeguards: Access to records is strictly limited to those staff members trained in accordance with the Privacy Act.

4. Implementation Guidelines: DHHS Chapter 45-13 of the General Administration Manual.

RETENTION AND DISPOSAL:

a. Procurement or purchase copy, and related papers:

(1) Transactions of more than $25,000 are destroyed 6 years and 3 months after final payment.

(2) Transactions of $25,000 or less are destroyed 3 years after final payment.

b. Other copies of records used by the Division of Contracts Management for administrative purposes are destroyed upon termination or completion.

SYSTEM MANAGER(S) AND ADDRESS:

Director, Division of Contracts Management, Office of Program Services, Substance Abuse and Mental Health Services Administration, 1 Choke Cherry Road, Rm. 7-1053, Rockville, Maryland 20857.

NOTIFICATION PROCEDURE:

To determine if a record exists, write to the appropriate System Manager at the address above or appear in person to the Division of Contracts Management. An individual may learn if a record exists about himself/herself upon written request with notarized signature. The request should include, if known, contractor's name, contract number, and approximate date contract was awarded. An individual who is the subject of records maintained in this records system may also request an accounting of all disclosures that have been made from that individual's records, if any.

RECORD ACCESS PROCEDURES:

Same as notification procedures. Requesters should reasonably specify the record contents being sought. An individual may also request an accounting of disclosures of his/her record, if any.

CONTESTING RECORD PROCEDURES:

Contact the official at the address specified under notification procedures above and reasonably identify the record, specify the information being contested, the corrective action sought, along with supporting information to show how the record is inaccurate, incomplete, untimely, or irrelevant.

RECORD SOURCE CATEGORIES:

Contract proposals and supporting contract documents, contract review committees, site visitors.

SYSTEMS EXEMPTED FROM CERTAIN PROVISIONS OF THE ACT:

None.

¹ Published in the Federal Register, Vol. 64, No. 11, Tuesday, January 19, 1999 (pages 2909-2918).

PRIVACY ACT SYSTEM NOTICE: 09-30-0027 ⁱⁱ

SYSTEM NAME:

Grants and Cooperative Agreements: Alcohol, Drug Abuse, and Mental Health Services Evaluation, Service, Demonstration, Education, Fellowship, Training, Clinical Training, and Community Services Programs (HHS/SAMHSA/OA)

SECURITY CLASSIFICATION:

None.

SYSTEM LOCATION:

Director, Center for Substance Abuse Prevention, Substance Abuse and Mental Health Services Administration, 1 Choke Cherry Road, Room 4-1057, Rockville, Maryland 20857.

Director, Center for Substance Abuse Treatment, Substance Abuse and Mental Health Services Administration, 1 Choke Cherry Road, Room 5-1015, Rockville, Maryland 20857.

Director, Center for Mental Health Services, Substance Abuse and Mental Health Services Administration, 1 Choke Cherry Road, Room 6-1057, Rockville, Maryland 20857.

CATEGORIES OF INDIVIDUALS COVERED BY THE SYSTEM:

Principal investigators, program directors, trainees, fellows, and other employees of applicant or grantee institutions.

CATEGORIES OF RECORDS IN THE SYSTEM:

Grant and cooperative agreement applications and review history, including curriculum vitae, salary information, summary of review committee deliberations and supporting documents, progress reports, financial records, and payback records of clinical training awardees.

AUTHORITY FOR MAINTENANCE OF THE SYSTEM:

SAMHSA: Public Health Service Act, Sections 301 (42 U.S.C. 241), 303 (42 U.S.C. 242(a), 322 (42 U.S.C. 249(c), 501 (42 U.S.C. 290aa), 503 (42 U.S.C. 290aa-2), and 505 (42 U.S.C. 290aa-4). CSAP: Center for Substance Abuse Prevention, Section 515-18 (42 U.S.C. 290bb-21 et seq.). CSAT: Center for Substance Abuse Treatment, Section 507-12 (42 U.S.C. 290bb et seq.). CMHS: Center for Mental Health Services, Sections 506 (42 U.S.C. 290aa-5) and 520-35 (42 U.S.C. 290bb-31 et seq.). Protection and Advocacy for Individuals with Mental Illness Act of 1986 as amended (42 U.S.C. 10801 et seq.); Refugee Education Assistance Act of 1980, Section 501 (c) (8 U.S.C. 1522 note), Public Law 96-422; Executive Order 12341; and Disaster Relief Act of 1974, Section 413, Public Law 93-288, as amended by Section of 416 of the Robert T. Stafford Disaster Relief and Emergency Assistance Act, Public Law 100-107.

PURPOSE(S) OF THE SYSTEM:

Records are maintained as official documentation relevant to the review, award, and administration of grant programs. Specifically, records are: (1) Used by staff program and management specialists for purpose of awarding and monitoring grant funds; and (2) used to maintain communication with former trainees/fellows who have incurred an obligation for clinical training under Public Health Service Act, Section 303 (42 U.S.C. 242a).

ROUTINE USES OF RECORDS MAINTAINED IN THE SYSTEM, INCLUDING CATEGORIES OF USERS AND THE PURPOSES OF SUCH USES:

1. Disclosure may be made to qualified experts not within the definition of Department employees for opinion during the application review process.

2. Disclosure may be made to SAMHSA contractors for the purpose of providing services related to the grant review or for carrying out quality assessment, program evaluation, and management reviews. Contractors are required to maintain Privacy Act safeguards with respect to the records.

3. In the event that a system of records maintained by this agency to carry out its functions indicates a violation or potential violation of law, whether civil, criminal or regulatory in nature, and whether arising by statute, or by regulation, rule or order issued pursuant thereto, the relevant records in the system of records may be referred, as a routine use, to the appropriate agency, whether Federal (e.g., the Department of Justice) or State (e.g., the State's Attorney's Office), charged with the responsibility of investigating or prosecuting such violation or charged with enforcing or implementing the statute, or rule, regulation or order issued pursuant thereto for litigation.

4. Disclosure may be made to a Federal agency, in response to its request, in connection with the hiring or retention of an employee, the issuance of a security clearance, the reporting of an investigation of an employee, the letting of a contract, or the issuance of a license, grant, or other benefit by the requesting agency, to the extent that the record is relevant and necessary to the requesting agency's decision on the matter.

5. Where Federal agencies having the power to subpoena other Federal agencies' records, such as the Internal Revenue Service or the Civil Rights Commission, issue a subpoena to the Department for records in this system of records, the Department will make such records available.

6. Disclosure may be made to a congressional office from the record of an individual in response to a verified inquiry from the congressional office made at the written request of that individual.

7. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation or has an interest in such litigation, and HHS determines that the use of such records by the Department of Justice, the court or other tribunal is relevant and necessary to the litigation and would help in the effective representation of the governmental party, provided that in each case, HHS determines that such disclosure is compatible with the purpose for which the records were collected.

8. A record from this system may be disclosed to the following entities in order to help collect a debt owed the United States:

(a) To another Federal agency so that agency can effect a salary offset;

(b) to another Federal agency so that agency can effect an administrative offset under common law or under 31 U.S.C. 3716 (withholding from money payable to, or held on behalf of, the individual);

(c) to the Treasury Department, Internal Revenue Service (IRS), to request his/her mailing address to locate him/her or in order to have a credit report prepared;

(d) to agents of the Department and to other third parties to help locate him/her in order to help collect or compromise a debt;

(e) to debt collection agents under 31 U.S.C. 3718 or under common law to help collect a debt; and

(f) to the Justice Department for litigation or further administrative action.

Disclosure under part (d) of this routine use is limited to the individual's name, address, social security number and other information necessary to identify him/her. Disclosure under parts (a)-(c) and (e) is limited to those items; the amount, status, and history of the claim; and the agency or program under which the claim arose. An address obtained from IRS may be disclosed to a credit reporting agency under part (d) only for the purpose of preparing a commercial credit report on the individual. Part (a) applies to any claims or debts arising or payable under the Social Security Act if and only if the employee consents in writing to the offset.

9. SAMHSA may disclose information from its records in this system to consumer reporting agencies in order to obtain credit reports to verify credit worthiness of grant/cooperative agreement applicants. Permissible disclosures include name, address, Social Security number or other information necessary to identify the individual; the funding being sought; and the program for which the information is being obtained.

10. When a debt becomes partly or wholly uncollectible, either because the time period for collection under the statute of limitations has expired or because the Government agrees with the individual to forgive or compromise the debt, a record from this system of records may be disclosed to the Internal Revenue Service to report the written-off amount as taxable income to the individual.

11. A record from this system may be disclosed to another Federal agency that has asked the Department to effect an administrative offset under common law or under 31 U.S.C. 3716 to help collect a debt owed the United States.

Disclosure under this routine use is limited to: name, address, Social Security number, and other information necessary to identify the individual, information about the money payable to or held for the individual, and other information concerning the administrative offset.

12. SAMHSA may disclose from this system of records to the Department of Treasury, Internal Revenue Service (IRS): (1) A delinquent debtor's name, address, Social Security number, and other information necessary to identify the debtor; (2) the amount of the debt; and (3) the program under which the debt arose, so that IRS can offset against the debt any income tax refunds which may be due to the debtor.

13. To appropriate Federal agencies and Department contractors that have a need to know the information for the purpose of assisting the Department's efforts to respond to a suspected or confirmed breach of the security or confidentiality of information maintained in this system of records, and the information disclosed is relevant and necessary for that assistance.

DISCLOSURES TO CONSUMER REPORTING AGENCIES:

Disclosures may be made from this system to “consumer reporting agencies” as defined in the Fair Credit Reporting Act (15 U.S.C. 1681 (f)) or the Federal Claims Collection Act of 1966 (31 U.S.C. 3701(a)(3)). The purpose of such disclosures is to provide an incentive for debtors to repay delinquent Federal Government debts by making these debts part of their credit records. Information disclosed will be limited to name, Social Security number, address, other information necessary to establish the identity of the individual, the amount, status, and history of the claim, and the agency or program under which the claim arose. Such disclosures will be made only after the procedural requirements of 31 U.S.C. 3711(f) have been met.

POLICIES AND PRACTICES FOR STORING, RETRIEVING, ACCESSING, RETAINING, AND DISPOSING OF RECORDS IN THE SYSTEM:

STORAGE:

Non-computerized documents are filed in folders in enclosed file cabinets and open shelves. Computerized records exist in tape and disk form.

RETRIEVABILITY:

By grant numbers and cross-indexed by name.

SAFEGUARDS:

1. Authorized Users: Access is limited to the Director, Division of Grants Management, SAMHSA, and staff authorized by him/her: grants specialists, grants technicians, program officials, assigned computer personnel, and possibly contractor staff including the project director and research associates.

2. Physical Safeguards: Records are maintained in a secured area. During normal work hours, area is staffed by authorized personnel who must show identification for entry. At other times, the computer area is locked. Hard copy files are stored in rooms which are locked at night. A 24-hour security guard patrols building.

3. Procedural Safeguards: Computer records are password protected; passwords are changed periodically. Contractors working on computerized records are given passwords to access data only on a need-to-know basis.

4. Implementation Guidelines: DHHS Chapter 45-13 of the General Administration Manual and Part 6, “Automated Information Systems Security” of the Information Resources Management Manual.

RETENTION AND DISPOSAL:

a. Alcohol, Drug Abuse, and Mental Health Services Evaluation, Services and Demonstration Grants: A copy of the final report is offered to the National Archives and Records Administration when 10 years old. Other records are held two years after termination of support Suitland Road, Suitland, MD, 20409. Records are destroyed when 6 years and 3 months old.

b. Education Grants: Records are held 2 years after completion of grants activities and final audit and then transferred to the Washington National Records Center located at 4205 Suitland Road, Suitland, MD 20409. Records are destroyed when 13 years old.

c. Training Program Grants: Records are held 1 year after termination of support and final audit and then retired transferred to the Washington National Records Center located at 4205 Suitland Road, Suitland, MD 20409. Records are destroyed when 3 years old.

d. Fellowships, Community Services Program Grants and Other Related Grants: Records are held 2 years after termination of support and final audit and then retired to the Washington National Records Center located at 4205 Suitland Road, Suitland, MD 20409. Records are destroyed when 5 years old.

SYSTEM MANAGER(S) AND ADDRESS:

Same as System Location.

NOTIFICATION PROCEDURE:

To determine if a record exists, write to the appropriate System Manager at the above address. Verifiable proof of identity is required.

RECORD ACCESS PROCEDURES:

Same as notification procedure. Requesters should also reasonably specify the record contents being sought, and should provide the official grant number when possible. An individual may also request an accounting of disclosures of his/her record, if any.

CONTESTING RECORD PROCEDURES:

Contact the appropriate System Manager at the address specified above and reasonably identify the record, specify the information being contested, the corrective action sought, along with supporting information to show how the record is inaccurate, incomplete, untimely, or irrelevant.

RECORD SOURCE CATEGORIES:

Applicants, grantees, fellows, trainees, personnel at grantee institution on whom the record is maintained, Federal advisory committees, site visitors, consultants, references.

SYSTEMS EXEMPTED FROM CERTAIN PROVISIONS OF THE ACT:

None.

¹ Published in the Federal Register, Vol. 64, No. 11, Tuesday, January 19, 1999 (pages 2909-2918)

PRIVACY ACT SYSTEM NOTICE: 09-30-0033 ⁱⁱⁱ

SYSTEM NAME:

Correspondence Files (HHS/SAMHSA/OA).

SECURITY CLASSIFICATION:

None.

SYSTEM LOCATION:

Office of the Administrator, Substance Abuse and Mental Health Services Administration, 1 Choke Cherry Road, Room, 8-1065, Rockville, Maryland 20857.

Office of the Director, Center for Substance Abuse Prevention, Substance Abuse and Mental Health Services Administration, 1 Choke Cherry Road, Room, 4-1057, Rockville, Maryland 20857.

Office of the Director, Center for Substance Abuse Treatment, Substance Abuse and Mental Health Services Administration, 1 Choke Cherry Road, Room, 5-1015, Rockville, Maryland 20857.

Office of the Director, Center for Mental Health Services, Substance Abuse and Mental Health Services Administration, 1 Choke Cherry Road, Room, 4-1057, Rockville, Maryland 20857.

CATEGORIES OF INDIVIDUALS COVERED BY THE SYSTEM:

Individuals who request information on SAMHSA programs.

CATEGORIES OF RECORDS IN THE SYSTEM:

Correspondence.

AUTHORITY FOR MAINTENANCE OF THE SYSTEM:

SAMHSA: Public Health Service Act, Sections 301 (42 U.S.C. 241), 322 (42 U.S.C. 249(c)), and 501-05 (42 U.S.C. 290aa et seq.). CSAP: Center for Substance Abuse Prevention, Section 515-8 (42 U.S.C. 290bb-21 et seq.). CSAT: Center for Substance Abuse Treatment, Section 507-12 (42 U.S.C. 290bb et seq.). CMHS: Center for Mental Health Services, Sections 506 (42 U.S.C. 290aa-5) and 520-35 (42 U.S.C. 290bb-31 et seq.). Protection and Advocacy for Individuals with Mental Illness Act of 1986 as amended (42 U.S.C. 1801 et seq.); Refugee Education Assistance Act of 1980, Section 501(c) (8 U.S.C. 1522 note), Public Law 96-422; Executive Order 12341; and Disaster Relief Act of 1974, Section 413, Public Law 93-288, as amended by Section 416 of the Robert T. Stafford Disaster Relief and Emergency Assistance Act Public Law 100-107.

PURPOSE(S) OF THE SYSTEM:

To provide reference retrieval and control to assure timely and appropriate attention.

ROUTINE USES OF RECORDS MAINTAINED IN THE SYSTEM, INCLUDING CATEGORIES OF USERS AND THE PURPOSES OF SUCH USES:

1. Disclosure may be made to a congressional office from the record of an individual in response to a verified inquiry from the congressional office made at the request of that individual.

2. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation or has an interest in such litigation, and HHS determines that the use of such records by the Department of Justice, the court or other tribunal is relevant and necessary to the litigation and would help in the effective representation of the governmental party, provided however, that in each case, HHS determines that such disclosure is compatible with the purpose for which the records were collected.

3. To appropriate Federal agencies and Department contractors that have a need to know the information for the purpose of assisting the Department's efforts to respond to a suspected or confirmed breach of the security or confidentiality of information maintained in this system of records, and the information disclosed is relevant and necessary for that assistance.

POLICIES AND PRACTICES FOR STORING, RETRIEVING, ACCESSING, RETAINING, AND DISPOSING OF RECORDS IN THE SYSTEM:

STORAGE:

Correspondence records maintained in hard copy; control records maintained on computer printout, tape, and disk.

RETRIEVABILITY:

Hard copy records indexed alphabetically by name and date of outgoing correspondence, by subject, and/or by computerized numerical code. Records are cross-referenced in detail on computer.

SAFEGUARDS:

1. Authorized Users: Authorized correspondence control staff in each location and managers and supervisors on a need-to-know basis.

2. Physical Safeguards: Records are maintained in file cabinets in a locked, secure location; computer system records are secured through the use of passwords which are changed frequently.

3. Procedural Safeguards: Only authorized personnel have access to files and passwords.

4. Implementation Guidelines: DHHS Chapter 45-13 of the General Administration Manual and Part 6, “Automated Information Systems Security” in the HHS Information Resources Management Manual.

RETENTION AND DISPOSAL:

Records which are pertinent are held 5 years and then transferred to the Washington National Records Center (WNRC) located at 4205 Suitland Road, Suitland, MD 20409. Records are destroyed when 10 years old. Other material is destroyed when 2 years old. Control forms are destroyed when 1 year old.

SYSTEM MANAGER(S) AND ADDRESS:

Same as system location; each system manager maintains full responsibility for their specific correspondence system.

NOTIFICATION PROCEDURE:

An individual may learn if a record exists about himself or herself by contacting the appropriate System Manager as listed under system location above. Give name and approximate date of records requested. Individuals who request notification in person must supply one proof of identity containing individual's complete name and one other identifier with picture (e.g., driver's license, building pass). Individuals who request notification by mail must supply notarized signature as proof of identity.

RECORD ACCESS PROCEDURES:

Same as notification procedures. Requesters should also reasonably specify the record contents being sought. An individual may also request an accounting of disclosures of his/her record, if any.

CONTESTING RECORD PROCEDURES:

Contact the appropriate official at the address specified under Notification Procedures above and reasonably identify the record. Specify the information to be contested, and state the corrective action sought, with supporting information to show how the record is inaccurate, incomplete, untimely, or irrelevant.

RECORD SOURCE CATEGORIES:

Records are derived from incoming and outgoing correspondence.

SYSTEMS EXEMPTED FROM CERTAIN PROVISIONS OF THE ACT:

None.

¹ Published in the Federal Register, Vol. 64, No. 11, Tuesday, January 19, 1999 (pages 2909-2918).

PRIVACY ACT SYSTEM NOTICE: 09-30-0036 ⁱᵛ

SYSTEM NAME:

Alcohol, Drug Abuse, and Mental Health Epidemiologic Data (HHS/SAMHSA/OA).

SECURITY CLASSIFICATION:

None.

SYSTEM LOCATION:

Records are located at facilities which collect or provide service evaluations for this system under contract to the agency. Contractors may include, but are not limited to, research centers, clinics, hospitals, universities, research foundations, national associations, and coordinating centers. Records may also be located at the Office of Applied Studies, the Center for Substance Abuse Prevention, the Center for Substance Abuse Treatment, and the Center for Mental Health Services. A current list of sites is available by writing to the appropriate System Manager at the address below.

CATEGORIES OF INDIVIDUALS COVERED BY THE SYSTEM:

Individuals who are the subjects of epidemiologic, methodologic, services evaluations, and longitudinal studies and surveys of mental health and alcohol and drug use/abuse and mental, alcohol, and/or drug abuse disorders. These individuals are selected as representative of the general adult and/or child population or of special groups. Special groups include, but are not limited to, normal individuals serving as controls; clients referred for or receiving medical, mental health, and alcohol and/or drug abuse related treatment and prevention services; providers of services; demographic sub-groups as applicable, such as age, sex, ethnicity, race, occupation, geographic location; and groups exposed to hypothesized risks, such as relatives of individuals who have experienced mental health and/or alcohol, and/or drug abuse disorders, life stresses, or have previous history of mental, alcohol, and/or drug abuse related illness.

CATEGORIES OF RECORDS IN THE SYSTEM:

The system contains data about the individual as relevant to a particular study. Examples include, but are not limited to, items about the health/mental health and/or alcohol or drug consumption patterns of the individual; demographic data; Social Security numbers (voluntary); past and present life experiences; personality characteristics; social functioning; utilization of health/mental health, alcohol, and/or drug abuse services; family history; physiological measures; and characteristics and activities of health/mental health, alcohol abuse, and/or drug abuse care providers.

AUTHORITY FOR MAINTENANCE OF THE SYSTEM:

SAMHSA: Public Health Service Act, Section 301 (42 U.S.C. 241), 322 (42 U.S.C. 249(c)), 501 (42 U.S.C. 290aa), 502 (42 U.S.C. 290aa-2), and 505 (42 U.S.C. 290aa-4). CSAP: Center for Substance Abuse Prevention, Section 515-18 (42 U.S.C. 290bb-21 et seq.). CSAT: Center for Substance Abuse Treatment, Section 507-12 (42 U.S.C. 290bb et seq.). CMHS: Center for Mental Health Services, Sections 506 (42 U.S.C. 290aa-5) and 520-35 (42 U.S.C. 290bb-31 et seq.). Protection and Advocacy for Individuals with Mental Illness Act of 1980, Section 501(c) (8 U.S.C. 1522 note), Public Law 96-422; Executive Order 12341; and Disaster Relief Act of 1974, Section 416 of the Robert T. Stafford Disaster Relief and Emergency Assistance Act, Public Law 100-107.

PURPOSE(S) OF THE SYSTEM:

The purpose of the system of records is to collect and maintain a data base for health services evaluation activities of the Center for Substance Abuse Prevention, the Center for Substance Abuse Treatment, and the Center for Mental Health Services. Analyses of these data involve groups of individuals with given characteristics and do not refer to special individuals. The generation of information and statistical analyses will ultimately lead to a better description and understanding of mental, alcohol, and/or drug abuse disorders, their diagnosis, treatment and prevention, and the promotion of good physical and mental health.

ROUTINE USES OF RECORDS MAINTAINED IN THE SYSTEM, INCLUDING CATEGORIES OF USERS AND THE PURPOSES OF SUCH USES:

1. A record may be disclosed for an evaluation purpose, when the Department:

(a) Has determined that the use or disclosure does not violate legal or policy limitations under which the record was provided, collected, or obtained; e.g., disclosure of alcohol or drug abuse patient records will be made only in accordance with 42 U.S.C. 290(dd-2).

(b) has determined that the study purpose (1) cannot be reasonably accomplished unless the record is provided in individually identifiable form, and (2) warrants the risk to the privacy of the individual that additional exposure of the record might bring;

(c) has required the recipient to—(1) establish reasonable administrative, technical, and physical safeguards to prevent unauthorized use or disclosure of the record, and (2) remove or destroy the information that identifies the individual at the earliest time at which removal or destruction can be accomplished consistent with the purpose of the health services evaluation project, unless the recipient has presented adequate justification of an analytical or health nature for retaining such information, and (3) make no further use or disclosure of the record except—(A) in emergency circumstances affecting the health or safety of any individual, (B) for use in another health services research or evaluation project, under these same conditions, and with written authorization of the Department, (C) for disclosure to a properly identified person for the purpose of an audit related to the evaluation project, if information that would enable study subjects to be identified is removed or destroyed at the earliest opportunity consistent with the purpose of the audit, or (D) when required by law; and

(d) has secured a written statement attesting to the recipient's understanding of, and willingness to abide by, these provisions.

2. Disclosure may be made to a congressional office from the record of an individual in response to a verified inquiry from a congressional office made at the written request of that individual.

3. In the event of litigation, where the defendant is (a) the Department, any component of the Department, or any employee of the Department in his or her official capacity; (b) the United States where the Department determines that the claim, if successful, is likely to directly affect the operations of the Department or any of its components; or (c) any Department employee in his or her individual capacity where the Justice Department has agreed to represent such employee; the Department may disclose such records as it deems desirable or necessary to the Department of Justice to enable that Department to present an effective defense, provided such disclosure is compatible with the purpose for which the records were collected (e.g., disclosure may be made to the Department of Justice or other appropriate Federal agencies in defending claims against the United States when the claim is based upon an individual's mental or physical condition and is alleged to have arisen because of the individual's participation in activities of a Federal Government supported research project).

4. The Department contemplates that it will contract with a private firm for the purpose of collecting, analyzing, aggregating, or otherwise refining records in this system. Relevant records will be disclosed to such contractor. The contractor shall be required to maintain Privacy Act safeguards with respect to such records.

5. To appropriate Federal agencies and Department contractors that have a need to know the information for the purpose of assisting the Department's efforts to respond to a suspected or confirmed breach of the security or confidentiality of information maintained in this system of records, and the information disclosed is relevant and necessary for that assistance.

POLICIES AND PRACTICES FOR STORING, RETRIEVING, ACCESSING, RETAINING, AND DISPOSING OF RECORDS IN THE SYSTEM:

STORAGE:

Records may be stored on index cards, file folders, computer tapes and disks, microfiche, microfilm, and audio and video tapes. Normally, the factual data, with study code numbers, are stored on computer tape or disk, while the key to personal identifiers is stored separately, without factual data, in paper files.

RETRIEVABILITY:

During data collection stages and follow up, if any, retrieval by personal identifier (e.g., name, social security number (in some studies), or medical record number), is necessary. During the data analysis stage, data are normally retrieved by the variables of interest (e.g., diagnosis, age, occupation).

SAFEGUARDS:

1. Authorized Users: Access to identifiers and to link files is strictly limited to those authorized personnel whose duties require such access. Procedures for determining authorized access to identified data are established as appropriate for each location. Personnel, including contractor personnel, who may be so authorized include those directly involved in data collection and in the design of research studies, e.g., interviewers and interviewer supervisors; project managers; and statisticians involved in designing sampling plans.

2. Physical Safeguards: Records are stored in locked rooms, locked file cabinets, and/or secured computer facilities. Personal identifiers and link files are separated as much as possible and stored in locked files. Computer data access is limited through the use of key words known only to authorized personnel.

3. Procedural Safeguards: Collection and maintenance of data is consistent with legislation and regulations in the protection of human subjects, informed consent, confidentiality, and confidentiality specific to drug and alcohol abuse patients where these apply. When a SAMHSA component or a contractor provides anonymous data to research scientists for analysis, study numbers which can be matched to personal identifiers will be eliminated, scrambled, or replaced by the agency or contractor with random numbers which cannot be matched. Contractors who maintain records in this system are instructed to make no further disclosure of the records. Privacy Act requirements are specifically included in contracts for survey and research activities related to this system. The HHS project directors, contract officers, and project officers oversee compliance with these requirements.

4. Implementation Guidelines: DHHS Chapter 45-13 of the General Administration Manual and Part 6, “Automated Information Systems Security” of the HHS Information Resources Management Manual.

RETENTION AND DISPOSAL:

Records may be retired to the Washington National Records Center located at 4205 Suitland Road, Suitland, MD 20409, and subsequently disposed of in accordance with the SAMHSA Records Control Schedule. The records control schedule and disposal standard for these records may be obtained by writing to the appropriate System Manager at the address below.

SYSTEM MANAGER(S) AND ADDRESS:

Office of the Director, Office of Applied Studies, Substance Abuse and Mental Health Services Administration, 1 Choke Cherry Road, Room 7-1047, Rockville, Maryland 20857.

Office of the Director, Center for Substance Abuse Prevention, Substance Abuse and Mental Health Services Administration, 1 Choke Cherry Road, Room 4-1057, Rockville, Maryland 20857.

Office of the Director, Center for Substance Abuse Treatment, Substance Abuse and Mental Health Services Administration, 1 Choke Cherry Road, Room 5-1015, Rockville, Maryland 20857.

Office of the Director, Center for Mental Health Services, Substance Abuse and Mental Health Services Administration, 1 Choke Cherry Road, Room 6-1057, Rockville, Maryland 20857.

NOTIFICATION PROCEDURE:

To determine if a record exists, write to the appropriate System Manager at the address above. Provide individual's name; current address; date of birth; date, place and nature of participation in specific evaluation study; name of individual or organization administering the study (if known); name or description of the study (if known); address at the time of participation; and a notarized statement by two witnesses attesting to the individual's identity.

RECORD ACCESS PROCEDURE:

Same as notification procedures. Requesters should also reasonably specify the record contents being sought. An individual may also request an accounting of disclosures of his/her record, if any.

An individual who requests notification of, or access to, a medical record shall, at the time the request is made, designate in writing a responsible representative who will be willing to review the record and inform the subject individual of its contents at the representative's discretion. A parent or guardian who requests notification of, or access to, a child's or incompetent person's medical record shall designate a family physician or other health professional (other than a family member) to whom the record, if any, will be sent. The parent or guardian must verify relationship to the child or incompetent person as well as his or her own identity.

CONTESTING RECORD PROCEDURE:

Contact the appropriate official at the address specified under System Manager(s) above and reasonably identify the record, specify the information being contested, and state corrective action sought, with supporting information to show how the record is inaccurate, incomplete, untimely, or irrelevant.

RECORD SOURCE CATEGORIES:

The system contains information obtained directly from the subject individual by interview (face-to-face or telephone), by written questionnaire, or by other tests, recording devices or observations, consistent with legislation and regulation regarding informed consent and protection of human subjects. Information is also obtained from other sources, such as health, mental health, alcohol, and/or drug abuse care providers; relatives; guardians; and clinical medical research records.

SYSTEMS EXEMPTED FROM CERTAIN PROVISIONS OF THE ACT:

None.

¹ Published in the Federal Register, Vol. 64, No. 11, Tuesday, January 19, 1999 (pages 2909-2918).

PRIVACY ACT SYSTEM NOTICE: 09-30-0049 ᵛ

SYSTEM NAME:

Consultant Records Maintained By SAMHSA Contractors (HHS/SAMHSA/OPS).

SECURITY CLASSIFICATION:

None.

SYSTEM LOCATION:

A current list of contractor sites is available by writing to the System Manager at the address below.

CATEGORIES OF INDIVIDUALS COVERED BY THE SYSTEM:

Consultants who participate in Substance Abuse and Mental Health Services Administration (SAMHSA) conferences, meetings, evaluation projects, or technical assistance at site locations arranged by contractors.

CATEGORIES OF RECORDS IN THE SYSTEM:

Names, addresses, Social Security numbers, qualifications, curricula vitae, travel records, and payment records for consultants.

AUTHORITY FOR MAINTENANCE OF THE SYSTEM:

SAMHSA: Public Health Service Act, as amended, Section 301 (42 U.S.C. 241), 322 (42 U.S.C. 249(c)), and 501-05 (42 U.S.C. 290aa et seq.). CSAP: Center for Substance Abuse Prevention, Section 515-8 (42 U.S.C. 290bb-21 et seq.). CSAT: Center for Substance Abuse Treatment, Section 507-12 (42 U.S.C. 290bb et seq.). CMHS: Center for Mental Health Services, Section 506 (42 U.S.C. 290aa-5) and 520-35 (42 U.S.C. 290bb-31 et seq.). Protection and Advocacy for Individuals with Mental Illness Act of 1986 as amended (42 U.S.C. 10801 et seq.); Refugee Education Assistance Act of 1980, Section 501(c) (8 U.S.C. 1522 note), Public Law 96-422; Executive Order 12341; and Disaster Relief Act of 1974, Section 413, Public Law 93-288, as amended by Section 416 of the Robert T. Stafford Disaster Relief and Emergency Assistance Act, Public Law 100-107.

PURPOSE(S) OF THE SYSTEM:

This umbrella system of records covers a varying number of separate sets of records used in different projects. These records are established by contractors to organize programs, obtain and pay consultants, and to provide necessary reports related to payment to the Internal Revenue Service for these programs for SAMHSA. SAMHSA personnel may use records when a technical assistance consultant is needed for a specialized area of research, review, advice, etc.

ROUTINE USES OF RECORDS MAINTAINED IN THE SYSTEM, INCLUDING CATEGORIES OF USERS AND THE PURPOSES OF SUCH USES:

1. The Department of Health and Human Services (HHS) may disclose information from this system of records to the Department of Justice, or to a court or other tribunal, when (a) HHS, or any component thereof; or (b) any HHS employee in his or her individual capacity where the Department of Justice (or HHS, where it is authorized to do so) has agreed to represent the employee; or (d) the United States or any agency thereof where HHS determines that the litigation is likely to affect HHS or any of its components, is a party to litigation or has an interest in such litigation, and HHS determines that the use of such records by the Department of Justice, the court or other tribunal is relevant and necessary to the litigation and would help in the effective representation of the governmental party, provided, however, that in each case, HHS determines that such disclosure is compatible with the purpose for which the records were collected.

2. Disclosure may be made to a congressional office from the record of an individual in response to a verified inquiry from the congressional office made at the written request of that individual.

3. Disclosure may be made to private contractors for the purposes of handling logistics for conferences, reviews, development of training materials, and of obtaining the services of consultants. Relevant records will be disclosed to such a contractor or may be developed by the contractor for use in the project. The contractor shall be required to maintain Privacy Act safeguards with respect to such records.

4. Disclosure may be made to the Department of Treasury, Internal Revenue Service, and applicable State and local governments those items to be included as income to an individual.

5. To appropriate Federal agencies and Department contractors that have a need to know the information for the purpose of assisting the Department's efforts to respond to a suspected or confirmed breach of the security or confidentiality of information maintained in this system of records, and the information disclosed is relevant and necessary for that assistance.

POLICIES AND PRACTICES FOR STORING, RETRIEVING, ACCESSING, RETAINING, AND DISPOSING OF RECORDS IN THE SYSTEM:

STORAGE:

Records may be stored in file folders, on index cards, computer tapes and disks, microfiche, microfilm.

RETRIEVABILITY:

Information will be retrieved by name.

SAFEGUARDS:

Measures to prevent unauthorized disclosures are implemented as appropriate for each location. Each site implements personnel, physical, and procedural safeguards such as the following:

1. Authorized Users: Only SAMHSA personnel working on these projects and personnel employed by SAMHSA contractors to work on these projects are authorized users as designated by the system managers.

2. Physical Safeguards: Records are stored in locked rooms, locked file cabinets, and/or secured computer facilities.

3. Procedural Safeguards: Contractors who maintain records in this system are instructed to make no further disclosure of the records except as authorized by the system manager and permitted by the Privacy Act. Privacy Act requirements are specifically included in contracts and in agreements with grantees or collaborators participating in research activities supported by this system. HHS project directors, contract officers, and project officers oversee compliance with these requirements.

4. Implementation Guidelines: DHHS Chapter 45-13 of the General Administration Manual, and Part 6, “Automated Information Systems Security” in the HHS Information Resources Management Manual.

RETENTION AND DISPOSAL:

Records are destroyed 3 years after they are no longer used, or, if payment is involved, 3 years after closeout of the contract.

SYSTEM MANAGER(S) AND ADDRESS:

Director, Division of Contracts Management, Office of Program Services, Substance Abuse and Mental Health Services Administration, 1 Choke Cherry Road, Room 7-1053, Rockville, Maryland 20857.

NOTIFICATION PROCEDURE:

To determine if a record exists, write to the appropriate System Manager at the address above. Provide notarized signature as proof of identity. The request should include as much of the following information as possible: (a) Full name; (b) title of project individual participated in; (c) SAMHSA project officer, and (d) approximate date(s) of participation.

RECORD ACCESS PROCEDURES:

Same as notification procedures. Requesters should also reasonably specify the record contents being sought.

Individuals may also request an accounting of disclosures of their records, if any.

CONTESTING RECORD PROCEDURES:

Contact the official at the address specified under Notification Procedures above and reasonably identify the record, specify the information being contested, and state the corrective action sought, with supporting information to show how the record is inaccurate, incomplete, untimely, or irrelevant.

RECORD SOURCE CATEGORIES:

Information gathered from individual consultants and from assignment or travel documents.

SYSTEMS EXEMPTED FROM CERTAIN PROVISIONS OF THE ACT:

None.

¹ Published in the Federal Register, Vol. 64, No. 11, Tuesday, January 19, 1999 (pages 2909-2918)

PRIVACY ACT SYSTEM NOTICE: 09-30-0051 ᵛⁱ

SYSTEM NAME:

SAMHSA Information Mailing System (SIMS).

SYSTEM CLASSIFICATION:

None.

SYSTEM LOCATION:

This system of records is maintained by the Office of Communications, 1 Choke Cherry Road, Rockville, Maryland 20857. The system of records will also be maintained at the site of the contractor managing SAMHSA's National Clearinghouse on Alcohol and Drug Abuse. Additional information about that contractor site is available by writing to the System Manager at the address below.

CATEGORIES OF INDIVIDUALS COVERED BY THE SYSTEM:

The individuals listed in the system are individuals who voluntarily request publications and other information from the SAMHSA Web site.

CATEGORIES OF RECORDS IN THE SYSTEM:

Request forms for SAMHSA publications include categories for personal information, such as name, phone number (home phone number may be provided), address (home address may be provided), title, level of education, topics/areas of interest related to SAMHSA programs, occupation, type of organization in which employed, and ethnic group.

AUTHORITY FOR MAINTENANCE OF THE SYSTEM:

Public Law 102-321 (“ADAMHA Reorganization Act”), Section 501 on July 10, 1992, as amended by Public Law 106-310.

PURPOSE(S) OF THE SYSTEM:

To establish a mailing list of States, political subdivisions, educational agencies and institutions, treatment providers, organizations, and individuals to provide SAMHSA publications and other print materials identified as of interest to them. In addition, it is used to provide them information about new and upcoming publications.

ROUTINE USES OF RECORDS MAINTAINED IN THE SYSTEM, INCLUDING CATEGORIES OF USERS AND THE PURPOSES OF SUCH USE:

1. Disclosure may be made to a Member of Congress or to a congressional staff member in response to a request for assistance from the Member by the individual of record.

2. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation, and HHS determines that the use of such records by the Department of Justice, court or other tribunal is relevant and necessary to the litigation and would help in the effective representation of the governmental party, provided, however, that in each case HHS determines that such disclosure is compatible with the purpose for which the records were collected.

3. SAMHSA intends to disclose information from this system to an expert, consultant, or contractor (including employees of the contractor) of SAMHSA only if necessary to further the implementation and operation of this program.

4. To appropriate Federal agencies and Department contractors that have a need to know the information for the purpose of assisting the Department's efforts to respond to a suspected or confirmed breach of the security or confidentiality of information maintained in this system of records, and the information disclosed is relevant and necessary for that assistance.

POLICIES AND PRACTICES FOR STORING, RETRIEVING, ACCESSING, RETAINING, AND DISPOSING OF RECORDS IN THE SYSTEM:

STORAGE:

Information may be collected on paper or electronically and may be stored as paper forms or on computers.

RETRIEVABILITY:

The records are retrieved by name; they may be sorted by topic of interest, State, organizational affiliation in order to direct information of relevance to them.

SAFEGUARDS:

Authorized Users: Only SAMHSA personnel working on this project and personnel employed by SAMHSA contractors to work on this project are authorized users as designated by the system manager.

Physical Safeguards: Physical paper records are stored in lockable metal file cabinets or security rooms.

Procedural Safeguards: Contractors who maintain records in this system are instructed to make no further disclosure of the records, except as authorized by the system manager and permitted by the Privacy Act. Privacy Act requirements are specifically included in contracts.

Technical Safeguards: Electronic records are protected by use of passwords.

Implementation Guidelines: HHS Chapter 45-13 of the General Administration Manual, “Safeguarding Records Contained in Systems of Records and the HHS Automated Information Systems Security Program Handbook, Information Resources Management Manual.”

RETENTION AND DISPOSAL:

Disposition of records is according to the National Archives and Records Administration (NARA) guidelines, as set forth in the SAMHSA Records Control Schedule, Appendix B-311 (NCI-90-76-5) Item 3.

SYSTEM MANAGER(S) AND ADDRESS(ES):

Director, Office of Communications, Office of the Administrator, Substance Abuse and Mental Health Services Administration, 1 Choke Cherry Road, Room, 8-1033, Rockville, Maryland 20857.

NOTIFICATION PROCEDURE:

Individuals may submit a request with a notarized signature on whether the system contains records about them to the above system manager.

RECORD ACCESS PROCEDURES:

Individuals have direct access to their personal record on the SIMS system, via the Internet, utilizing a discrete password of their own selection. Should this not be feasible or desired, and, in all other cases, requests from individuals for access to their records should be addressed to the system manager. Requesters should also reasonably specify the record contents being sought. Individuals may also request an accounting of disclosures of their records, if any.

CONTESTING RECORD PROCEDURES:

Contact the official at the address specified under Notification Procedures above and reasonably identify the record, specify the information being contested, and state the corrective action sought, with supporting information to show how the record is inaccurate, incomplete, untimely, or irrelevant.

RECORD SOURCE CATEGORIES:

Information is provided by individuals, among others, who request SAMHSA publications. Furnishing of the information is voluntary.

SYSTEMS EXEMPTED FROM CERTAIN PROVISIONS OF THE ACT:

None.

¹ Published in the Federal Register, Vol. 66, No. 62, Friday, March 30, 2001 (p. 17434).

PRIVACY ACT SYSTEM NOTICE: 09-30-0052 ᵛⁱⁱ

SYSTEM NAME:

Opioid Treatment Waiver Notification System (OTWNS).

SECURITY CLASSIFICATION:

None.

SYSTEM LOCATION:

Office of Pharmacologic and Alternative Therapies, Center for Substance Abuse Treatment, Substance Abuse and Mental Health Services Administration, Room 5-1015, 1 Choke Cherry Road, Rockville, Maryland 20857.

CATEGORIES OF INDIVIDUALS COVERED BY THE SYSTEM:

An individual practitioner (physician) or a practitioner in a group practice who submits a written notification of intent to use schedule III, IV, or V opioid drugs for the maintenance or detoxification treatment of opiate addiction under 21 U.S.C. 823(g)(2).

CATEGORIES OF RECORDS IN THE SYSTEM:

Physician name, address, phone, facsimile, state medical license number, DEA registration number, credentialing and specialized training information. In addition, for those practitioners in group practices, the group practice EIN.

AUTHORITY FOR MAINTENANCE OF THE SYSTEM:

Controlled Substance Act (21 U.S.C. 823(g)(2)).

PURPOSE(S):

To determine (as required by 21 U.S.C. 823 (g)(2)) whether practitioners who submit notifications meet all of the requirements for a waiver under 21 U.S.C. 823(g)(2)(B). The established criteria for a waiver include: a written notification that states the practitioner's name, the practitioner's registration under 21 U.S.C. 823(f), the practitioner's physician license under State law, and the qualifying physician criteria. The record system will also allow disclosure with consent of limited information to the Treatment Facility Locator.

ROUTINE USES OF RECORDS MAINTAINED IN THE SYSTEM, INCLUDING CATEGORIES OF USERS AND THE PURPOSES OF SUCH USES:

A. Medical specialty societies to verify practitioner qualifications.

B. Other Federal law enforcement and regulatory agencies for law enforcement and regulatory purposes.

C. State and local law enforcement and regulatory agencies for law enforcement and regulatory purposes.

D. Persons registered under the Controlled Substance Act (Pub. L. 91-513) for the purpose of verifying the registration of customers and practitioners.

E. Disclosure may be made to a congressional office from the record of an individual in response to a verified inquiry from the congressional office made at the written request of that individual.

F. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation or has an interest in such litigation, and HHS determines that the use of such records by the Department of Justice, the court or other tribunal is relevant and necessary to the litigation and would help in the effective representation of the governmental party, provided however, that in each case, HHS determines that such disclosure is compatible with the purpose for which the records were collected.

G. SAMHSA intends to disclose information from this system to an expert, consultant, or contractor (including employees of the contractor) of SAMHSA if necessary to further the implementation and operation of this program.

H. Disclosure limited to the individual's name, address, and phone number will also be made to the SAMHSA Treatment Facility Locator pursuant to express consent.

I. To appropriate Federal agencies and Department contractors that have a need to know the information for the purpose of assisting the Department's efforts to respond to a suspected or confirmed breach of the security or confidentiality of information maintained in this system of records, and the information disclosed is relevant and necessary for that assistance.

DISCLOSURES TO CONSUMER REPORTING AGENCIES:

None.

POLICIES AND PRACTICES FOR STORING, RETRIEVING, ACCESSING, RETAINING, AND DISPOSING OF RECORDS IN THE SYSTEM STORAGE:

Documents are filed in manual files in enclosed and/or locked file cabinets and in secured computers. The same basic data is maintained in an automated system for quick retrieval.

RETRIEVABILITY:

Records are retrieved by the individual practitioner's name and cross indexed by the practitioner's DEA registration number.

SAFEGUARDS:

1. Authorized Users: Federal contract and support personnel.

2. Physical Safeguards: All folders are in file cabinets in a room that is locked after business hours in a building with controlled entry (picture identification). Files are withdrawn from cabinet for Federal staff who have a need to know by a sign in and out procedure.

3. Procedural Safeguards: Access to records is strictly limited to those staff members trained in accordance with the Privacy Act.

4. Implementation Guidelines: DHHS Chapter 45-13 of the General Administration Manual.

RETENTION AND DISPOSAL:

Records are retained for a period of five years and then destroyed.

SYSTEM MANAGER(S) AND ADDRESS:

Nicholas Reuter, Office of Pharmacologic and Alternative Therapies, Center for Substance Abuse Treatment, Substance Abuse and Mental Health Services Administration, Room 6-70, Rockwall II Building, 5600 Fishers Lane, Rockville, Maryland 20857.

NOTIFICATION PROCEDURES:

To determine if a record exists, write to the appropriate System Manager at the address above or appear in person to the Division of Contracts Management. An individual may learn if a record exists about himself/herself upon written request with notarized signature. An individual who is the subject of records maintained in this record system may also request an accounting of all disclosures that have been made from that individual's records, if any.

RECORD ACCESS PROCEDURES:

Same as notification procedures. Requesters should specify the record contents being sought. An individual may also request an accounting of disclosures of his/her record, if any.

CONTESTING RECORD PROCEDURES:

Contact the official at the address specified under notification procedures above and identify the record, specify the information being contested, the corrective action sought, along with supporting information to show how the record is inaccurate, incomplete, untimely, or irrelevant.

RECORD SOURCE CATEGORIES:

Individual practitioner notifications of intent to use Schedule III, IV, or V opioid drugs for the Maintenance and Detoxification Treatment of Opiate Addiction under 21 U.S.C. 823(g)(2).

SYSTEM EXEMPTED FROM CERTAIN PROVISIONS OF THE ACT:

None.

¹ Published in the Federal Register, Vol. 67, No. 80, Thursday, April 25, 2002 (pages 20542-20544).

[FR Doc. 2010-12147 Filed 5-19-10; 8:45 am]

BILLING CODE 4160-20-P